DEPARTMENT OF STATE

Office of the Coordinator for Counterterrorism

[Public Notice 4213]

Designation of Foreign Terrorist Organizations

Pursuant to section 219 of the Immigration and Nationality Act (“INA”), as added by the Antiterrorism and Effective Death Penalty Act of 1996, Public Law 104-132, § 302, 110 Stat. 1214, 1248 (1996), and amended by the Illegal Immigration Reform and Immigrant Responsibility Act of 1996, Public Law 104-208, 110 Stat. 3009 (1996), and by the Uniting and Strengthening America by Providing Appropriate Tools Required to Intercept and Obstruct Terrorism (USA PATRIOT ACT) Act of 2001, Public Law 107-56 (2001), the Deputy Secretary of State hereby amends, effective December 3, 2002, the 2001 redesignation of the Kurdistan Workers' Party (PKK and other aliases) as a “foreign terrorist organization” to add the following names as aliases of the PKK:

Kurdistan Freedom and Democracy Congress

Freedom and Democracy Congress of Kurdistan

KADEK

Dated: November 26, 2002.
William P. Pope,
Acting Coordinator for Counterterrorism, Department of State.

[FR Doc. 02-30544 Filed 12-2-02; 5:00 pm]

BILLING CODE 4710-10-P